COMMISSION ON CIVIL RIGHTS

Notice of Public Meeting of the Puerto Rico Advisory Committee to the U.S. Commission on Civil Rights

AGENCY: Commission on Civil Rights.

ACTION: Announcement of meeting.

SUMMARY: Notice is hereby given, pursuant to the provisions of the rules and regulations of the U.S. Commission on Civil Rights (Commission), and the Federal Advisory Committee Act (FACA), that a briefing of the Puerto Rico Advisory Committee to the Commission will convene on Wednesday, May 10, 2023, from 9:00 a.m. to approximately 5:00 p.m. Atlantic Time. The purpose of the briefing is to hear from experts, government officials, academics and impacted persons on the topic of the Insular Cases and their impacts on civil rights in Puerto Rico. The briefing is free is charge and is open to the public.

DATES: May 10, 2023, Wednesday; 9:00 a.m. to approximately 5:00 p.m. Atlantic Time.

ADDRESSES: InterAmerican University of Puerto Rico Law School, 170 C. Federico Costas, Hato Rey, 00918, Puerto Rico.

FOR FURTHER INFORMATION CONTACT: Victoria Moreno, Designated Federal Officer at vmoreno@usccr.gov, or by phone at 434-515-0204.

SUPPLEMENTARY INFORMATION: This meeting will be held in Spanish and is open to the public free of charge. To request accommodations, please email ebohor@usccr.gov at least 10 business days prior to the meeting.

Members of the public are entitled to make comments during the open period towards the end of the briefing. Members of the public may also submit written comments; the comments must be received in the Regional Programs Unit within 30 days following the respective meeting. Written comments may be emailed to Victoria Moreno at vmoreno@usccr.gov. All written comments received will be available to the public.

Persons who desire additional information may contact the Regional Programs Unit at (202) 809-9618. Records and documents discussed during the meeting will be available for public viewing as they become available at the www.facadatabase.gov. Persons interested in the work of this advisory committee are advised to go to the Commission's website, www.usccr.gov, or to contact the Regional Programs Unit at the above phone number or email address.

Agenda

1. Welcome & Roll Call

2. Briefing on the Insular Cases and Their Impacts on Civil Rights in Puerto Rico

3. Public Comment

4. Adjourn

Dated: April 20, 2023.
David Mussatt,
Supervisory Chief, Regional Programs Unit.

[FR Doc. 2023-08709 Filed 4-24-23; 8:45 am]

BILLING CODE P